DEPARTMENT OF COMMERCE

National Oceanic and Atmospheric Administration

Notice of Intent

AGENCY: National Estuarine Research Reserve System, Office of Ocean and Coastal Resource Management (OCRM), National Ocean Service (NOS), National Oceanic and Atmospheric Administration (NOAA), U.S. Department of Commerce.

ACTION: Notice of intent to prepare a draft environmental impact statement on the proposed St. Louis River National Estuarine Research Reserve (reserve) in Superior, Wisconsin. Notice of a public scoping meeting in Superior, Wisconsin, to solicit comments on significant issues related to the preparation of a Draft Environmental Impact Statement/Draft Management Plan (DEIS/DMP) for the proposed reserve. The DEIS/DMP will address the research, education, and stewardship needs of the proposed reserve.

DATES: Monday, December 1, 2008 at 7 p.m.

ADDRESSES: University of Wisconsin—Superior Multicultural Center, Old Main—Rm 232, Superior, WI 54880.

SUMMARY: In accordance with section 315 of the Coastal Zone Management Act of 1972, as amended, the State of Wisconsin and the National Oceanic and Atmospheric Administration intend to conduct a public scoping meeting on December 1, 2008, in Superior, Wisconsin, as part of NOAA's Draft Environmental Impact Statement/Draft Management Plan (DEIS/DMP) process to solicit comments for the preparation of a DEIS/DMP.

SUPPLEMENTARY INFORMATION: The decision to be made by NOAA is whether or not to designate the proposed St. Louis River National Estuarine Research Reserve. University of Wisconsin-Extension (UW-EX), Wisconsin Department of Administration (WI DOA), and NOAA are working to determine what the boundaries of the reserve will be, how the reserve will be managed, and the policies of the proposed reserve. These decisions will be made through an analysis process and spelled out in the reserve management plan.

The St. Louis River freshwater estuary constitutes a relatively intact and wetland rich area, and is an excellent representative area in the Great Lakes biogeographic region with a diversity of coastal habitat types. The unique physical and hydrological features of the proposed site is expected to attract a broad range of research interests from multiple scientific disciplines. Beginning in 2004, the WI DOA and UW-EX organized a number of partners and stakeholders to explore the feasibility of a reserve on the Lake Superior coast. In 2006, the State of Wisconsin undertook a site selection process to determine appropriate areas of Wisconsin's Lake Superior coast that might be nominated for inclusion in the Reserve System. This process and a parallel public participation process generated advice from public and private experts in estuarine science and input from the public.

On June 1, 2008, the Governor of the State of Wisconsin nominated the St. Louis River Freshwater Estuary for consideration as a Lake Superior Reserve. In October of 2008, NOAA approved the site nomination document for the proposed Lake Superior reserve and began working with UW-EX and WI DOA to develop a management plan and environmental impact statement for the proposed reserve.

The St. Louis River reserve is proposed to be administered by the UW-EX in cooperation with partner landholders including the Wisconsin Department of Natural Resources and the City of Superior. WI DOA and UW-EX are jointly developing an outline of a preliminary draft management plan. The outline is intended to identify specific needs and priorities related to research, education and stewardship. At the public meeting, WI DOA, UW-EX, and NOAA will provide a synopsis of the process for developing a DEIS/DMP and will solicit comments on significant environmental issues that will be incorporated into a DEIS.

Interested parties who wish to submit suggestions or comments regarding the scope or content of the proposed DEIS/DMP are invited to attend the above meeting.

FOR FURTHER INFORMATION CONTACT: Travis Olsen, Wisconsin Department of Administration at (608) 266-3687 or travis.olson@wisconsin.gov or Laurie McGilvray, Chief, Estuarine Reserves Division, Office of Ocean and Coastal Resource Management, National Ocean Service, NOAA, 1305 East-West Highway, Silver Spring, Maryland 20910, (301) 713-3155 ext 158 or Laurie.McGilvray@noaa.gov.

Federal Domestic Assistance Catalog Number 11.420, (Coastal Zone Management) Research Reserves.
Dated: November 11, 2008.
David M. Kennedy,
Office of Ocean and Coastal Resource Management.

[FR Doc. E8-27273 Filed 11-17-08; 8:45 am]

BILLING CODE 3510-22-P